DEPARTMENT OF THE INTERIOR

National Park Service

[N6753; NPS-WASO-NAGPRA-NPS0041518; PPWOCRADN0-PCU00RP14.R50000]

Notice of Intended Repatriation: Wilson Museum, Castine, ME

AGENCY: National Park Service, Interior.

ACTION: Notice.

SUMMARY: In accordance with the Native American Graves Protection and Repatriation Act (NAGPRA), the Wilson Museum intends to repatriate certain cultural items that meet the definition of unassociated funerary objects, sacred objects, and/or objects of cultural patrimony and that have a cultural affiliation with the Indian Tribes or Native Hawaiian organizations in this notice.

DATES: Repatriation of the cultural items in this notice may occur on or after January 20, 2026.

ADDRESSES: Send additional, written requests for repatriation of the cultural items in this notice to Abby Dunham, Wilson Museum, P.O. Box 196, 120 Perkins St., Castine, ME 04421, email repatriation@wilsonmuseum.org.

SUPPLEMENTARY INFORMATION: This notice is published as part of the National Park Service's administrative responsibilities under NAGPRA. The determinations in this notice are the sole responsibility of the Wilson Museum, and additional information on the determinations in this notice, including the results of consultation, can be found in the summary or related records. The National Park Service is not responsible for the determinations in this notice.

Abstract of Information Available

A total of 116 cultural items has been requested for repatriation, including 101 unassociated funerary objects, 14 sacred objects, and one object of cultural patrimony.

One unassociated funerary object is a worked stone from Chattooga County, Georgia, collected by and/or acquired from W.A. Marshall in 1924.

Six unassociated funerary objects are stone tools, ornaments, and worked stone acquired from Warren King Moorehead (Moorehead)on an unknown date from unknown locations in Georgia.

Four unassociated funerary objects are one lot of mica fragments and three lots of pottery sherds collected by Birkbeck Wilson on an unknown date from unknown locations in Georgia.

One unassociated funerary object is a stone knife collected by E.S. Byington for Moorehead on an unknown date from an unknown location in Kentucky, referenced in museum records as “Dreek” County.

Two unassociated funerary objects are stone tools acquired from Moorehead on an unknown date from unknown locations in Kentucky.

Five unassociated funerary objects are stone tools and worked stone collected by E.S. Byington for Moorehead on an unknown date from Franklin, Macon County, North Carolina.

One unassociated funerary object is a stone point from an unknown collector on an unknown date from an unknown location in North Carolina.

One unassociated funerary object is a lot of quartz stone points collected by John Howard Wilson on an unknown date from Camden, Kershaw County, South Carolina.

Two unassociated funerary objects are: one lot of approximately 50 stone tools, two pottery sherds, and one animal tooth; and one lot of approximately 35 stone tools and nine pottery sherds collected by John Howard Wilson on an unknown date from Knight's Hill, Camden, Kershaw County, South Carolina.

Four unassociated funerary objects are stone tools acquired by John Howard Wilson from the Charleston Museum on an unknown date, from unknown locations in South Carolina.

Five unassociated funerary objects are worked stones collected by E.S. Byington for Moorehead on an unknown date from the Little River in Blount, Sevier, and Knox Counties, Tennessee.

Seven unassociated funerary objects are stone tools collected by E.S. Byington for Moorehead on an unknown date from Chattanooga, Hamilton County, Tennessee.

Two unassociated funerary objects are stone celts collected by E.S. Byington for Moorehead on an unknown date from the Pigeon River, Cocke County, Tennessee.

One unassociated funerary object is one lot of approximately 115 stone tools celts collected by E.S. Byington for Moorehead on an unknown date from Mine Lick Creek, DeKalb County, Tennessee.

21 unassociated funerary objects are worked stone, stone tools, and pottery sherds collected by Birkbeck Wilson on an unknown date from Dover, Stewart County, Tennessee.

10 unassociated funerary objects are worked stone and stone tools collected by Birkbeck Wilson on an unknown date from Cumberland River, Dover, Stewart County, Tennessee.

Four unassociated funerary objects are stone scrapers collected by Moorehead at an unknown date from Hancock County, Tennessee.

Three unassociated funerary objects are worked stones collected by E.S. Byington for Moorehead on an unknown date from Hardin County, Tennessee.

One unassociated funerary object is a stone spear collected by E.S. Byington for Moorehead on an unknown date from Lincoln County, Tennessee.

One unassociated funerary object is a worked stone collected by Moorehead at an unknown date from Upper Hampton Place, Rhea County, Tennessee.

One unassociated funerary object is a worked stone collected by E.S. Byington for Moorehead on an unknown date from a rock shelter in Sevier County, Tennessee.

Three unassociated funerary objects are stone points collected by an unknown person on an unknown date from Zimmerman's Island, Jefferson County, Tennessee.

Four unassociated funerary objects are stone tools collected by E.S. Byington for Moorehead on an unknown date from unknown locations in Tennessee.

Three unassociated funerary objects are worked stone and stone tools collected by Moorehead on an unknown date from unknown locations in Tennessee.

Three unassociated funerary objects are worked stone and stone tools from an unknown collector on an unknown date from unknown locations in Tennessee.

Four unassociated funerary objects are stone points collected by Moorehead and/or John Howard Wilson at an unknown date from unknown locations in Virgina.

One unassociated funerary object is a stone scraper collected by Moorehead on an unknown date from Mason County, West Virginia.

One sacred object is a pipe collected by Moorehead on an unknown date from an unknown location in Georgia.

Four sacred objects are one worked stone, two stone celts, and one lot of pottery sherds collected by E.S. Byington for Moorehead on an unknown date from a mound on the Little Pigeon River, Haywood County, North Carolina.

One sacred object is one lot of pottery sherds and stone tools collected by John Howard Wilson on an unknown date from a mound near Camden, Kershaw County, South Carolina.

One sacred object is a stone pipe collected by E.S. Byington for Moorehead on an unknown date from a quarry near Franklin, Williamson County, Tennessee.

Two sacred objects are stone pipes collected by Moorehead on an unknown date from a quarry near Franklin, Williamson County, Tennessee.

One sacred object is one lot of pottery sherds collected by E.S. Byington for Moorehead on an unknown date from McMahon Mound, Sevier, Sevier County, Tennessee.

One sacred object is a notched stone collected by Moorehead in 1919 from McMahon Mound, Sevier, Sevier County, Tennessee.

One sacred object is one lot of pottery sherds collected by E.S. Byington for Moorehead in 1919 from North Bank Trench, Romsay Mound, Cooke County, Tennessee.

Two sacred objects are a stone celt and a lot of pottery sherds collected by E.S. Byington for Moorehead in 1919 from a mound a mound on Zimmerman's Island, Jefferson County, Tennessee.

One object of cultural patrimony is a clay figure from the collection of Moorehead collected ca. 1884 from a stone grave near Nashville, Davidson County, Tennessee.

Determinations

The Wilson Museum has determined that:

• The 101 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 14 sacred objects described in this notice are specific ceremonial objects needed by a traditional Native American religious leader for present-day adherents to practice traditional Native American religion, according to the Native American traditional knowledge of a lineal descendant, Indian Tribe, or Native Hawaiian organization.

• The one object of cultural patrimony described in this notice has ongoing historical, traditional, or cultural importance central to the Native American group, including any constituent sub-group (such as a band, clan, lineage, ceremonial society, or other subdivision), according to the Native American traditional knowledge of an Indian Tribe or Native Hawaiian organization.

• There is a connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Wilson Museum must determine the most appropriate requestor prior to repatriation. Requests for joint repatriation of the cultural items are considered a single request and not competing requests. The Wilson Museum is responsible for sending a copy of this notice to the Indian Tribes and Native Hawaiian organizations identified in this notice and to any other consulting parties.

Authority: Native American Graves Protection and Repatriation Act, 25 U.S.C. 3004 and the implementing regulations, 43 CFR 10.9.

Dated: December 3, 2025.
Melanie O'Brien,
Manager, National NAGPRA Program.

[FR Doc. 2025-23197 Filed 12-17-25; 8:45 am]

BILLING CODE 4312-52-P